DEPARTMENT OF AGRICULTURE

Submission for OMB Review; Comment Request

September 21, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 26, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Emergency Management Response System (EMRS).

OMB Control Number: 0579-0071.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. Through the Foreign Animal Disease Surveillance Program, the Animal and Plant Health Inspection Service (APHIS) Veterinary Services compiles essential epidemiological and diagnostic data that are used to define foreign animal diseases (FAD) and their risk factors. The data is compiled through the Veterinary Services Emergency Management Response System, a web-based database for reporting investigations of suspected FAD occurrences.

Need and Use of the Information: APHIS collects information such as the purpose of the diagnostician's visit to the site, the name and address of the owner/manager and the site, the type of operation being investigated, the number of and type of animals on the premises, vaccination information on the animals in the herd or flock, biosecurity practices at the site, whether any animals have been moved to or from the premises and when this movement occurred, number of sick or dead animals, the results of physical examinations of the affected animals, the results of postmortem examinations, and the number and kinds of samples taken, and the name of the suspected disease.

APHIS uses the collected information to effectively prevent FAD occurrences and protect the health of the United States. Without the information, APHIS has no way to detect and monitor FAD outbreaks in the United States.

Description of Respondents: Businesses; and State, Local or Tribal Governments.

Number of Respondents: 136.

Frequency of Responses: Reporting, on occasion.

Total Burden Hours: 1,632.

Animal and Plant Health Inspection Service

Title: Importation of Peppers from Certain Central American Countries.

OMB Control Number: 0579-0274.

Summary of Collection: Under the Plant Protection Act (PPA) (7 U.S.C. 7701-7772), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-72). The fruits and vegetables regulations allow certain type of peppers grown in approved registered production sites in Costa Rica, El Salvador, Guatemala, Honduras, Nicaragua and Panama to be imported, under certain conditions, into the United States without treatment while continuing to provide protection against the introduction of quarantine pests into the United States.

Need and Use of the Information: The regulations require the use of information collection activities including inspections by Central American national plant protection organization officials, phytosanitary certificate, labeling of boxes, monitor traps, trapping records, bilateral workplan, production site registrations, quality control program, and emergency action notifications. If the information were not collected, it would cripple the Animal and Plant Health Inspection Service ability to regulate and prevent the importation or spread of plant pests and diseases from entering the United States.

Description of Respondents: Businesses; Federal Government.

Number of Respondents: 36.

Frequency of Responses: Recordkeeping; Reporting: On occasion.

Total Burden Hours: 4,285.

Animal and Plant Health Inspection Service

Title: Importation of Peppers from the Republic of Korea.

OMB Control Number: 0579-0282.

Summary of Collection: Under the Plant Protection Act (PPA) (7 U.S.C. 7701-et seq.), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-83). The Animal and Plant Health Inspection Service (APHIS) fruits and vegetables regulations allow the importation of peppers from the Republic of Korea under certain conditions into the continental United States.

Need and Use of the Information: The regulations require the use of information collection activities including a phytosanitary certificate and declaration issued by the National Plant Quarantine Service of Korea, greenhouse registrations, inspections, and emergency action notifications. Failing to collect this information would cripple APHIS' ability to regulate and prevent the importation or spread of plant pests and diseases from entering the United States.

Description of Respondents: Federal Government (Foreign); Business or other for-profit.

Number of Respondents: 2.

Frequency of Responses: Reporting: On occasion.

Total Burden Hours: 29.

Animal and Plant Health Inspection Service

Title: Movement of Plants and Plant Products from Hawaii and the Territories.

OMB Control Number: 0579-0346.

Summary of Collection: Under the Plant Protection Act (7 U.S.C 7701), the Secretary of Agriculture is authorized to prohibit or restrict the importation, entry, or movement of fruits, vegetables, plants, and plant pests to prevent the introduction of pests or diseases into the United States, or dissemination of pests and diseases within the United States. The Animal and Plant Health Inspection Service (APHIS), Plant Protection and Quarantine (PPQ), is responsible for implementing this Act and does so through the enforcement of its Hawaiian and territorial quarantine regulations contained in Part 318 of Title 7, Code of Federal Regulations.

Need and Use of the Information: APHIS will use the following forms and activities to collect information: PPQ 530, PPQ 586, PPQ 519, PPQ 540, Labeling of Boxes for Pest Free Areas, Inspection and Certification, Trapping and Surveillance, Contingency Plans approved by APHIS, Updated Mapping Identifying Places Where Horticultural or Other Crops are Grown, Written Request for Facility Approval—and Recertification, Recordkeeping, Decertification of Pest Free Areas—and Reinstatement, Notification of Emergency Conveyance, Aircraft/Ship Inspections of Departure, Production Site Registration, Packing House Registration, and Box Markings. If APHIS did not collect this information or if APHIS collected this information less frequently, the spread of dangerous plant diseases and pests could cause millions of dollars in damage to U.S. agriculture.

Description of Respondents: Business or other for-profits; State, Local or Tribal Government.

Number of Respondents: 203.

Frequency of Responses: Recordkeeping; Reporting: On occasion.

Total Burden Hours: 8,318.

Animal and Plant Health Inspection Service

Title: Importation of Papayas from Peru.

Control Number: 0579-0410.

Summary of Collection: The Plant Protection Act (PPA, 7 U.S.C. 7701 et seq.) authorizes the Secretary of Agriculture to restrict the importation, entry, or interstate movement of plants, plant products, and other articles within the United States to prevent the introduction of plant pests or their dissemination. The Animal and Plant Health Inspection Service (APHIS) Plant Protection and Quarantine (PPQ) Program enforces the Act by regulating the importation of fruits and vegetables into the United States. These regulations are found in Section 319 of the Code of Federal Regulations (CFR) under “Subpart—Fruits and Vegetables” (7 CFR 319.56-1 through 319.56-81). Under § 319.56-25, papaya fruit from Peru may be imported into the continental United States under certain conditions that prevent the introduction of plant pests into the country.

Need and Use of the Information: APHIS will use information collection activities and actions to ensure these conditions are met. These activities include grower registrations, applications for import permit, notices of arrival, emergency action notifications, and recordkeeping. Also, consignments of fruit must be accompanied by phytosanitary certificates issued by the National Plant Protection Organization (NPPO) of Peru and containing additional declaration stating the provisions of 7 CFR 319.56-25 have been met. These activities for this commodity are the minimum necessary to protect crops and the agriculture industry from dangerous plant pests and diseases.

Description of Respondents: Commercial growers and importers, Foreign Governments.

Number of Respondents: 52

Frequency of Responses: Reporting on occasion, and recordkeeping.

Total Burden Hours: 1,507.

Animal and Plant Health Inspection Service

Title: Importation of Apples from China.

OMB Control Number: 0579-0423.

Summary of Collection: Under the Plant Protection Act (7 U.S.C. 7701, et seq.) the Secretary of Agriculture is authorized to prohibit or restrict the importation, entry, or movement of plants and plant pests to prevent the introduction into the United States or their dissemination within the United States. The regulations in “Subpart—Fruits and Vegetables” (7 CFR 319.56) prohibit or restrict the importation of fruits and vegetables into the United States from certain parts of the world to prevent the introduction and dissemination of plant pests that are new to or not widely distributed within the United States.

Need and Use of the Information: APHIS uses the following information collection activities to prevent the spread of fruit flies and other plant pests from entering into the United States: Operational workplan, production site, and packinghouse registrations, tracking system, box labeling, phytosanitary certificates with declarations, inspections, investigation for detection, handling procedures, and emergency action notification. Falling to collect this information would cripple APHIS' ability to ensure that apples from China are not carrying plant pests.

Description of Respondents: Business or other for-profit; Federal Government.

Number of Respondents: 186.

Frequency of Responses: Reporting: On occasion; Annually.

Total Burden Hours: 1,117.

Ruth Brown,
Departmental Information Collection Clearance Officer.

[FR Doc. 2018-20939 Filed 9-25-18; 8:45 am]

BILLING CODE 3410-34-P